POSTAL REGULATORY COMMISSION

Facility Tours

AGENCY: Postal Regulatory Commission.

ACTION: Notice of Commission tours.

SUMMARY: On Tuesday, December 4, and Wednesday, December 5, 2007, Postal Regulatory Commissioners and advisory staff members will tour the United Parcel Service facility in Louisville, Kentucky and meet with company officials. The purpose of the tour is to observe company operations.

DATES: December 4-5, 2007.

FOR FURTHER INFORMATION CONTACT: Ann C. Fisher, Chief of Staff, Postal Regulatory Commission, at 202-789-6803 or ann.fisher@prc.gov.

Steven W. Williams,
Secretary.

[FR Doc. 07-5893 Filed 11-30-07; 8:45 am]

BILLING CODE 7710-FW-M